DEPARTMENT OF THE INTERIOR

Bureau of Land Management

[WY-100-5440-K100-EQ; WYW-172178]

Notice of Realty Action, Lease of Public Land in Sublette County, WY

AGENCY: Bureau of Land Management, Interior.

ACTION: Notice of Realty Action.

SUMMARY: The Bureau of Land Management (BLM) proposes to convert a temporary land use permit to a long-term lease under Section 302 of the Federal Land Policy and Management Act of 1976 for use as a work-force facility.

DATES: Comments regarding the lease must be received by the BLM at the address below not later than May 3, 2010.

ADDRESSES: Send all written comments concerning this proposal to the Field Manager, BLM Pinedale Field Office, P.O. Box 768, Pinedale, Wyoming 82941. Comments received in electronic form, such as e-mail or facsimile, will not be considered.

FOR FURTHER INFORMATION CONTACT: Bill Wadsworth, Realty Specialist, BLM Pinedale Field Office at 307-367-5341.

SUPPLEMENTARY INFORMATION: The following described land is proposed for lease at no less than fair market value:

Sixth Principal Meridian

T. 28 N., R. 108 W.,

Sec. 8, SE¼SE¼.

The area described contains 10 acres, more or less, in Sublette County. This area is currently being used as a site for Encana Oil and Gas (USA), Incorporated's work-force facility, under a three-year land use permit. The BLM proposes to convert this permit to a renewable 15-year lease for the same purpose at no less than fair market value. This will reduce the amount of time that the BLM staff will spend renewing the lease. The area is currently fenced for security and has dormitory-style housing, a dining area, a laundry, recreational amenities, and related appurtenances to operate the facility. The lands are available for lease for the above-described purpose. Any lease will be issued on a non-competitive basis, because, in the judgment of the authorized officer, no competitive interest exists and/or competitive bidding would represent unfair competitive and economic disadvantage to the existing permittee.

Detailed information concerning this action is available for review at the BLM Pinedale Field Office, 1625 West Pine Street, Pinedale, Wyoming 82941.

Before including your address, phone number, e-mail address, or other personal identifying information in your comment, you should be aware that your entire comment—including your personal identifying information—may be publicly available at any time. While you can ask us in your comment to withhold from public review your personal identifying information, we cannot guarantee that we will be able to do so. Any adverse comments will be reviewed by the BLM State Director, who may sustain, vacate, or modify this realty action. In the absence of any adverse comments, this realty action will become the final determination of the Department of the Interior.

Authority: 43 CFR 2920.4.

John Huston,
Assistant Field Manager.

[FR Doc. 2010-6062 Filed 3-18-10; 8:45 am]

BILLING CODE 4310-22-P